DEPARTMENT OF HEALTH AND HUMAN SERVICES

Centers for Disease Control and Prevention

[Program Announcement EH05-056]

An Assessment of the Health Effects From Exposure to Volcanic Emissions; Notice of Intent To Fund Single Eligibility Award

A. Purpose

The Centers for Disease Control and Prevention (CDC) announces the intent to fund fiscal year (FY) 2005 funds for a grant program to: to provide funds to the Hawaii Department of Public Health (HDPH) for an assessment of the health effects experienced by Hawaii residents that may be associated with potentially toxic volcanic emissions from an active volcano.

B. Eligible Applicant

An application may only be submitted by the Hawaii Department of Public Health (HDPH).

HDPH is the most appropriate organization to conduct the work under this grant for the following reasons:

1. Congressional language states that: The problem of asthma in Hawaii remains a serious health threat and challenge, especially among the medically underserved. In particular, the problem of volcanic emissions in Hawaii contributes to this and other respiratory problems. Congress has provided CDC with funds to address this problem.

2. Hawaii has the statutory responsibility for protecting and enhancing the public health of its citizens. This includes assessing the impact of volcanic emissions on the health of Hawaii residents.

3. HDPH has access to state collected data, which will be essential components of the project.

C. Funding

Approximately $75,000 is available in FY 2005 to fund this award. It is expected that the award will begin on or before August 31, 2005, and will be made for a 12-month budget period within a project period of up to 1 year. Funding estimates may change.

D. Where To Obtain Additional Information

For general comments or questions about this announcement, contact: Technical Information Management, CDC Procurement and Grants Office, 2920 Brandywine Road, Atlanta, GA 30341-4146. Telephone: 770-488-2700.

For technical questions about this program, contact: Mildred Williams-Johnson, Ph.D., Scientific Program Administrator, CDC, National Center for Environmental Health, 1600 Clifton Road, NE., Mail Stop E17, Atlanta, GA 30333. Telephone: 404-498-0639. E-mail: MWilliams-Johnson@cdc.gov.

Dated: May 5, 2005.
William P. Nichols,
Director, Procurement and Grants Office, Centers for Disease Control and Prevention.

[FR Doc. 05-9368 Filed 5-10-05; 8:45 am]

BILLING CODE 4163-18-P